DEPARTMENT OF DEFENSE

Department of the Air Force

Air Force Scientific Advisory Board; Notice of Federal Advisory Committee Meeting

AGENCY: Air Force Scientific Advisory Board, Department of the Air Force, DoD.

ACTION: Notice of Federal advisory committee meeting.

SUMMARY: The Department of Defense (DoD) is publishing this notice to announce that the following Federal Advisory Committee meeting of the Air Force Scientific Advisory Board will take place.

DATES: Closed to the public. 17 December 2020 from 2:30 p.m. to 3:40 p.m. Eastern Standard Time.

ADDRESSES: The meeting will be held by virtual means from multiple secure locations across the United States, connected through secure virtual communications systems to include at the Pentagon, Los Angeles AFB, Hill AFB, and MIT/LL.

FOR FURTHER INFORMATION CONTACT: Lt Col Elizabeth Sorrells, (240) 470-4566 (Voice), elizabeth.sorrells@us.af.mil (Email). Mailing address is 1500 West Perimeter Road, Ste. #3300, Joint Base Andrews, MD 20762. Website: https://www.scientificadvisoryboard.af.mil/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of this Air Force Scientific Advisory Board meeting is for the Parent Board to receive the FY20 SecAF-directed study outbrief for the Innovative Space Applications study.

Agenda: [All times are Eastern Standard Time] 2:30 p.m.-2:35 p.m. Welcome Remarks 2:35 p.m.-3:35 p.m. Innovative Space Applications Outbrief and Deliberations 3:35p.m.-3:40p.m. Vote and Closing Remarks. In accordance with section 10(d) of the Federal Advisory Committee Act, as amended, 5 U.S.C. Appendix and 41 CFR 102-3.155, the Administrative Assistant of the Air Force, in consultation with the Air Force General Counsel, has agreed that the public interest requires the United States Air Force Scientific Advisory Board meeting be closed to the public because it will involve discussions involving classified matters covered by 5 U.S.C. 552b(c)(1).

Written Statements: Any member of the public wishing to provide input to the United States Air Force Scientific Advisory Board should submit a written statement in accordance with 41 CFR 102-3.140(c) and section 10(a)(3) of the Federal Advisory Committee Act and the procedures described in this paragraph. Written statements can be submitted to the Designated Federal Officer at the address detailed above at any time. The Designated Federal Officer will review all submissions with the United States Air Force Scientific Advisory Board Chairperson and ensure they are provided to members of the United States Air Force Scientific Advisory Board. Written statements received after the meeting that are the subject of this notice may not be considered by the Scientific Advisory Board until the next scheduled meeting.

Adriane Paris,
Acting Air Force Federal Register Liaison Officer.

[FR Doc. 2020-25913 Filed 11-23-20; 8:45 am]

BILLING CODE 5001-10-P